DEPARTMENT OF HEALTH AND HUMAN SERVICES

National Institutes of Health

National Library of Medicine; Cancellation of Meeting

Notice is hereby given of the cancellation of the National Library of Medicine Special Emphasis Panel, January 13, 2003, 9 a.m. to January 14, 2003, 5 p.m., which was published in the Federal Register on November 19, 2002, 67 FR 69754.

The meeting is canceled due to more time needed to process reviews and reports.

Dated: January 7, 2003.
Anna Snouffer,
Deputy Director, Office of Federal Advisory Committee Policy.

[FR Doc. 03-928 Filed 1-15-03; 8:45 am]

BILLING CODE 4140-01-M